DEPARTMENT OF HEALTH AND HUMAN SERVICES

Minority Community Health Partnership HIV/AIDS Demonstration Grant Program

AGENCY: Office of the Secretary, Office of Public Health and Science, Office of Minority Health, HHS.

ACTION: Notice.

Announcement Type: Competitive Initial Announcement of Availability of Funds.

Catalog of Federal Domestic Assistance Number: Minority Community Health Partnership HIV/AIDS Demonstration Grant Program—93.137.

DATES: Application Availability Date: May 4, 2006. Application Deadline: June 19, 2006.

SUMMARY: This announcement is made by the United States Department of Health and Human Services (HHS or Department), Office of Minority Health (OMH) located within the Office of Public Health and Science (OPHS), and working in a “One-Department” approach collaboratively with participating HHS agencies and program (entities). The mission of the OMH is to improve the health of racial and ethnic minority populations through the development of policies and programs that address disparities and gaps. OMH serves as the focal point within the HHS for leadership, policy development and coordination, service demonstrations, information exchange, coalition and partnership building, and related efforts to address the health needs of racial and ethnic minorities.

As part of a continuing HHS effort to improve the health and well being of racial and ethnic minorities, the Department announces availability of FY 2006 funding for the Minority Community Health Partnership HIV/AIDS Demonstration Grant Program. Minority communities are currently at the center of the HIV/AIDS epidemic in this country. Based on reported cases of HIV/AIDS,¹ the Centers for Disease Control and Prevention (CDC) estimates that more than 1.1 million Americans were living with HIV/AIDS at the end of 2004. From 2001 to 2004, African Americans accounted for 50% of newly diagnosed cases of HIV/AIDS, despite the fact that they comprise only 13% of the U.S. population. Similarly, Hispanics, who comprise 14% of the U.S. population, accounted for nearly 20% of newly diagnosed cases. While federal efforts to prevent the spread of HIV focus heavily on testing and early diagnosis, community groups can make a difference by reaching out through education and awareness activities.

¹ HIV/AIDS Surveillance Report; Cases of HIV Infection and AIDS in the United States, 2004; Volume 16.

SUPPLEMENTARY INFORMATION:

Table of Contents

Section I. Funding Opportunity Description

1. Purpose

2. OMH Expectations

3. Applicant Project Results

4. Project Requirements

Section II. Award Information

Section III. Eligibility Information

1. Eligible Applicants

2. Cost Sharing or Matching

3. Other

Section IV. Application and Submission Information

1. Address To Request Application Package

2. Content and Form of Application Submission

3. Submission Dates and Time

4. Intergovernmental Review

5. Funding Restrictions

Section V. Application Review Information

1. Criteria

2. Review and Selection Process

3. Anticipated Award Date

Section VI. Award Administration Information

1. Award Notices

2. Administrative and National Policy Requirements

3. Reporting Requirements

Section VII. Agency Contacts

Section VIII. Other Information

1. Healthy People 2010

2. Definitions

Section I. Funding Opportunity Description

Authority: The program is authorized under 42 U.S.C. 300u-6, section 1707 of the Public Health Service Act, as amended.

1. Purpose: The Minority Community Health Partnership HIV/AIDS Demonstration Grant Program (hereinafter referred to as the Community Partnership HIV/AIDS Program) seeks to improve the health status relative to HIV/AIDS, of targeted minority (see definition) populations through health promotion and education activities. This program is intended to test community-based interventions on reducing HIV/AIDS disparities among racial and ethnic minority populations, and demonstrate the effectiveness of community-based partnerships involving non-traditional partners at the local level in:

• Developing an integrated community-based response to the HIV/AIDS crisis through community dialogue and interactions;

• Addressing the sociocultural, linguistic and other barriers to HIV/AIDS treatment to increase the number of individuals seeking and accepting services; and

• Developing and implementing HIV/AIDS prevention, interventions, and educational efforts for targeted minority populations.

2. OMH Expectations: It is intended that the Community Partnership HIV/AIDS Program will result in:

• Increased number and capacity of community-based, minority-serving organizations directly involved in addressing the HIV/AIDS epidemic.

• Increased awareness of health promoting behaviors.

Reduction of sociocultural, linguistic and other barriers to HIV/AIDS treatment for targeted minority populations.

• Increased linkages among organizations to facilitate an increase in the number of targeted individuals entering a continuum of health care for HIV/AIDS.

• Increased HIV/AIDS counseling and testing services.

3. Applicant Project Results: Applicants must identify anticipated project results that are consistent with the overall Program purpose and OMH expectations. Project results should fall within the following general categories:

• Mobilizing Coalitions and Networks.

• Changing Behavior and Utilization.

• Increasing Access to Health Care Services.

• Increasing Knowledge and Awareness of HIV/AIDS.

The outcomes of these projects will be used to develop other national efforts to eliminate the disproportionate impact of HIV/AIDS on minority populations.

4. Project Requirements: Each applicant under the Community Partnership HIV/AIDS Program must propose to:

• Implement the project through a partnership of community-based organizations that will coordinate HIV/AIDS outreach, screening and education efforts and provide referrals and follow-up for HIV/AIDS treatment.

• Conduct a replicable program using an integrated community-based response to the HIV/AIDS crisis through community dialogue and interaction designed to improve the health status of targeted minority populations.

• Ensure that the target population is provided with HIV/AIDS health promotion and education outreach activities that are linguistically, culturally, and age appropriate.

• Engage minority communities in activities that will impact attitudes and perceptions about HIV/AIDS in these communities to increase the number of individuals seeking and accepting services.

• Include the “A-B-C” approach to HIV prevention—Abstinence, Be faithful, and use Condoms as a prevention strategy to assist in combating the spread of HIV/AIDS.

Section II. Award Information

Estimated Funds Available for Competition: $2.5 million in FY 2006.

Anticipated Number of Awards: 13 to 17.

Range of Awards: $150,000 to $200,000 per year.

Anticipated Start Date: September 1, 2006.

Period of Performance: 3 Years (September 1, 2006 to August 31, 2009).

Budget Period Length: 12 months.

Type of Award: Grant.

Type of Application Accepted: New.

Section III. Eligibility Information

1. Eligible Applicants

To qualify for funding, an applicant must be a:

(1) Private nonprofit community-based, minority-serving organization (see Definition) which addresses health or human services; or

(2) Public (local or tribal government) community-based organization which addresses health or human services;

(3) Historically Black College or University (HBCU), Hispanic Serving Institution (HSI), or Tribal College or University (TCU); and

Represent a community partnership of at least three discrete organizations which include:

—A community-based, minority-serving organization (applicant) with at least five years of documented experience in conducting HIV/AIDS education and health promotion activities.

—An AIDS Service Organization (ASO) with at least three years of documented experience to ensure that information dissemination on HIV/AIDS and related issues is current and accurate from a medical point of view; and

—A minority-serving organization rooted in the community with no experience in HIV/AIDS activities.

Requisite experience must be documented in the application through a description of the type of activities/services provided, when they began, and how long they were offered.

The partnership must be documented through a single signed Memorandum of Agreement (MOA) among the community-based organization (applicant), the ASO and the inexperienced organization. The MOA must specify in detail the roles and resources that each entity will bring to the project, and the terms of the linkage. The MOA must cover the entire project period. The MOA must be signed by individuals with the authority to represent the organization.

Other entities that meet the definition of private non-profit community-based, minority-serving organization and the above criteria that are eligible to apply are:

• Faith-based organizations.

• Tribal organizations.

• Local affiliates of national, state-wide, or regional organizations.

National, state-wide, and regional organizations may not apply for these grants. As the focus of the program is at the local, grassroots level, OMH is looking for entities that have ties to the local community. National, state-wide, and regional organizations operate on a broader scale and are not as likely to effectively access the targeted minority population in the specific, local neighborhood and communities.

The organization submitting the application will:

• Serve as the lead agency for the project, responsible for its implementation and management; and

• Serve as the fiscal agent for the Federal grant awarded.

2. Cost Sharing or Matching

Matching funds are not required for the Community Partnership HIV/AIDS Program.

3. Other

Organizations applying for funds under the Community Partnership HIV/AIDS Program must submit documentation of nonprofit status with their applications. If documentation is not provided, the application will be considered non-responsive and will not be entered into the review process. The organization will be notified that the application did not meet the submission requirements.

Any of the following serves as acceptable proof of nonprofit status:

• A reference to the applicant organization's listing in the Internal Revenue Service (IRS) most recent list of tax-exempt organizations described in section 501(c)(3) of the IRS Code.

• A copy of a currently valid IRS tax exemption certificate.

• A statement from a State taxing body, State Attorney General, or other appropriate State official certifying that the applicant organization has a nonprofit status and that none of the net earnings accrue to any private shareholders or individuals.

• A certified copy of the organization's certificate of incorporation or similar document that clearly establishes nonprofit status.

For local, nonprofit affiliates of State or national organizations, a statement signed by the parent organization indicating that the applicant organization is a local nonprofit affiliate must be provided in addition to any one of the above acceptable proof of nonprofit status.

If funding is requested in an amount greater than the ceiling of the award range, the application will be considered non-responsive and will not be entered into the review process. The application will be returned with notification that it did not meet the submission requirements.

Applications that are not complete or that do not conform to or address the criteria of this announcement will be considered non-responsive and will not be entered into the review process. The application will be returned with notification that it did not meet the submission requirements.

An organization may submit no more than one application to the Community Partnership HIV/AIDS Program. Organizations submitting more than one proposal for this grant program will be deemed ineligible. The multiple proposals from the same organization will be returned without comment.

Organizations are not eligible to receive funding from more than one OMH grant program to carry out the same project and/or activities.

Section IV. Application and Submission Information

1. Address To Request Application Package

Application kits may be obtained:

• At http://www.omhrc.gov.

• By writing to the OPHS Office of Grants Management, Tower Building, 1101 Wootton Parkway, Suite 550, Rockville, MD 20852; or contact the Office of Grants Management at (240) 453-8822. Please specify the Minority Community Health Partnership HIV/AIDS Demonstration Grant Program as the program for which you are requesting an application kit.

2. Content and Form of Application Submission

A. Application and Submission

Applicants must use Grant Application Form OPHS-1 and complete the Face Page/Cover Page (SF424), Checklist, and Budget Information Forms for Non-Construction Programs (SF424A). In addition, the application must contain a project narrative. The project narrative (including summary and appendices) is limited to 60 pages. Organizations funded under the Minority Community Health Coalition Demonstration Grant Program, HIV/AIDS Program in FY 2002 (project periods beginning September 30, 2002 and ending as late as September 29, 2006) are also required to submit a Progress Report. This report is limited to 15 pages double-spaced, which do not count against the page limitation.

The narrative must be printed on one side of 8½ by 11 inch white paper, with one-inch margins, double-spaced and 12-point font. All pages must be numbered sequentially including any appendices. (Do not use decimals or letters, such as: 1.3 or 2A). Do not staple or bind the application package.

The narrative description of the project must contain the following, in the order presented:

• Table of Contents.

• Project Summary: Describe key aspects of the Background, Objectives, Program Plan, and Evaluation Plan. The summary is limited to three (3) pages.

• Background and Demonstrated Capability:

—Statement of Need: Describe the HIV/AIDS epidemic in the targeted community. Describe and document (with data) demographic information on the targeted geographic area, the significance or prevalence of the problem or issues affecting the target minority group(s). Describe the target population (e.g., race/ethnicity, age, gender, educational level/income). Provide rationale for the approach. Support with data from the local area (national, regional and state data may be used to put the local problem in context). Identify existing services and the extent to which they reach the targeted community. Identify partnership members and provide the rationale for including them in the project.

—Experience: Describe any similar projects implemented to work with issues of HIV/AIDS, and the results of these efforts. (For those organizations funded under the Minority Community Health Coalition Demonstration Grant Program, HIV/AIDS in FY 2002, you must attach a progress report on that specific project and its results). Discuss the applicant organization's experience in managing projects/activities, especially those targeting the population to be served. Indicate where the project will be located within the organization's structure and the reporting channel. Provide a chart of the proposed project's organizational structure, showing who reports to whom. Describe how the partnership organizations will interface with the applicant organization.

• Objectives: State objectives in measurable terms, including baseline data, improvement targets and time frames for achievement for the three-year project period.

• Program Plan: Clearly describe how the project will bridge the identified gap(s) in existing services and how it will be carried out. Describe specific activities and strategies planned to achieve each objective. For each activity, describe how, when, where, by whom, and for whom the activity will be conducted. Describe the role of each partnership organization in the project.

Provide a description of the proposed program staff, including resumes and job descriptions for key staff, qualifications and responsibilities of each staff member, and percent of time each will commit to the project. Provide a description of duties for any proposed consultants. Describe any products to be developed by the project. Provide a time line for each of the three years of the project.

• Evaluation Plan: Clearly delineate how program activities will be evaluated. The evaluation plan must be able to produce documented results that demonstrate whether and how the strategies and activities funded under the Program made a difference in improving the HIV/AIDS health status of the targeted minority population(s). The plan must identify the expected results for each objective. The description must include data collection and analysis methods, demographic data to be collected on project participants, process measures which describe indicators to be used to monitor and measure progress toward achieving projected results, outcome measures to show the project has accomplished planned activities, and impact measures that demonstrate achievement of the objectives.

Discuss plans and describe the vehicle (e.g., manual, CD), that will be used to document the steps which others may follow to replicate the proposed project in similar communities. Describe plans for disseminating project results to other communities.

Appendices: Include MOAs, progress report (if required), and other relevant information in this section.

In addition to the project narrative, the application must contain a detailed budget justification which includes a narrative explanation and indicates the computation of expenditures for each year for which grant support is requested. The budget request must include funds for key project staff to attend an annual OMH grantee meeting. (The budget justification does not count toward the page limitation.)

B. Data Universal Numbering System number (DUNS)

Applicants must have a Dun & Bradstreet (D&B) Data Universal Numbering System number as the universal identifier when applying for Federal grants. The D&B number can be obtained by calling (866) 705-5711 or through the web site at http://www.dnb.com/us/.

3. Submission Dates and Times

Application Deadline Date: June 19, 2006.

Submission Mechanisms

The Office of Public Health and Science provides multiple mechanisms for the submission of applications, as described in the following sections. Applicants will receive notification via mail from the Office of Grants Management, OPHS, confirming the receipt of applications submitted using any of these mechanisms. Applications submitted after the deadline described below will not be accepted for review. Applications that do not conform to the requirements of the grant announcement will not be accepted for review and will be returned to the applicant.

You may submit your application in either electronic or paper format.

To submit an application electronically, use either the OPHS eGrants Web site, https://egrants.osophs.dhhs.gov or the Grants.gov Web site, http://www.Grants.gov/. OMH will not accept grant applications via any other means of electronic communication, including email or facsimile transmission.

Electronic Submission

If you choose to submit your application electronically, please note the following:

• Electronic submission is voluntary, but strongly encouraged. You will not receive additional point value because you submit a grant application in electronic format, nor will you be penalized if you submit an application in paper format.

• The electronic application for this program may be accessed on https://egrants.osophs.dhhs.gov (eGrants) or on http://www.grants.gov/ (Grants.gov). If using Grants.gov, you must search for the downloadable application package by the CFDA number (93.910).

• When you enter the eGrants or the Grants.gov sites, you will find information about submitting an application electronically, as well as the hours of operation. We strongly recommend that you do not wait until the deadline date to begin the application process. Visit eGrants or Grants.gov at least 30 days prior to filing your application to fully understand the process and requirements. Grants.gov requires organizations to successfully complete a registration process prior to submission of an application.

• The body of the application and required forms can be submitted electronically using either system. Electronic submissions must contain all forms required by the application kit, as well as the Program Narrative, Budget Narrative, and any appendices or exhibits. Applicants using eGrants are also required to submit, by mail, a hard copy of the face page (SF424) with the original signature of an individual authorized to act for the applicant agency or organization and to assume for the organization the obligations imposed by the terms and conditions of the grant award. (Applicants using Grants.gov are not required to submit a hard copy of the SF424, as Grants.gov uses digital signature technology.) If required, applicants using eGrants may also need to submit a hard copy of SF LLL, and/or certain program related forms (e.g., Program certifications) with original signatures.

• Any other hard copy materials, or documents requiring signature, must also be submitted via mail. Mail-in items may only include publications, resumes, or organizational documentation. (If applying via eGrants, the applicant must identify the mail-in items on the Application Checklist at the time of electronic submission.) The application will not be considered complete until both the electronic application components and any hard copy materials or original signatures are received. All mailed items must be received by the Office of Grants Management, OPHS by the deadline specified below.

• Your application must comply with any page limitation requirements described in this program announcement.

• We strongly encourage you to submit your electronic application well before the closing date and time so that if difficulties are encountered you can still send in a hard copy overnight. If you encounter difficulties, please contact the eGrants Help Desk at 1-301-231-9898 x142 (egrants-help@osophs,dhhs.gov), or the Grants.gov Help Desk at 1-800-518-4276 (support@grants.gov) to report the problem and obtain assistance with the system.

• Upon successful submission via eGrants, you will receive a confirmation page indicating the date and time (Eastern Time) of the electronic application submission. The confirmation will also provide a listing of all items that constitute the final application submission including all electronic application components, required hard copy original signatures, and mail-in items, as well as the mailing address of the Office of Grants Management, OPHS, where all required hard copy materials must be submitted and received by the deadline specified below. As items are received by that office, the application status will be updated to reflect their receipt. Applicants are advised to monitor the status of their applications in the OPHS eGrants system to ensure that all signatures and mail-in items are received.

• Upon successful submission via Grants.gov, you will receive a confirmation page indicating the date and time (Eastern Time) of the electronic application submission, as well as the Grants.gov Receipt Number. It is critical that you print and retain this confirmation for their records, as well as a copy of the entire application package. Applications submitted via Grants.gov also undergo a validation process. Once the application is successfully validated by Grants.gov, you will again be notified and should immediately mail all required hard copy materials to the Office of Grants Management, OPHS, to be received by the deadline specified below. It is critical that you clearly identify the Organization name and Grants.gov Application Receipt Number on all hard copy materials. Validated applications will be electronically transferred to the OPHS eGrants system for processing. Any applications deemed “Invalid” by Grants.gov will not be transferred to the eGrants system. OPHS has no responsibility for any application that is not validated and transferred to OPHS from Grants.gov.

• Electronic grant application submissions must be submitted no later than 5 p.m. Eastern Time on June 19, 2006. All required hard copy original signatures and mail-in items must be received by the Office of Grants Management, OPHS, no later than 5 p.m. Eastern Time on the next business day after the deadline.

Mailed or Hand-Delivered Hard Copy Applications

Applicants who submit applications in hard copy (via mail or hand-delivered) are required to submit an original and two copies of the complete application. The original application must be signed by an individual authorized to act for the applicant agency or organization and to assume for the organization the obligations imposed by the terms and conditions of the grant award. The original and each of the two copies must include all required forms, certifications, assurances, and appendices.

Mailed or hand-delivered applications will be considered as meeting the deadline if they are received by the Office of Grants Management, OPHS, on or before 5 p.m. Eastern Time on June 19, 2006. The application deadline date requirement specified in this announcement supersedes the instructions in the OPHS-1. Applications that do not meet the deadline will be returned to the applicant unread.

For applications submitted in hard copy, send an original, signed in blue ink, and two copies of the complete application to: Ms. Karen Campbell, Director, OPHS Office of Grants Management, 1101 Wootton Parkway, Suite 550, Rockville, MD 20852. Required hard copy mail-in items should be sent to this same address.

4. Intergovernmental Review

The Community Partnership HIV/AIDS Program is subject to the requirements of Executive Order 12372 which allows States the options of setting up a system for reviewing applications from within their States for assistance under certain Federal programs. The application kits available under the notice will contain a list of States which have chosen to set up a review system and will include a State Single Point of Contact (SPOC) in the State for review. The SPOC list is also available on the Internet at the following address: http://www.whitehouse.gov/omb/grants/spoc.html. Applicants (other than federally recognized Indian tribes) should contact their SPOC as early as possible to alert them to the prospective applications and receive any necessary instructions on the State process. The due date for State process recommendation is 60 days after the application deadlines established by the OPHS Grants Management Officer. The OMH does not guarantee that it will accommodate or explain its responses to State process recommendations received after that date. (See “Intergovernmental Review of Federal Programs,” Executive Order 12372, and 45 CFR part 100 for a description of the review process and requirements.)

The Community Partnership HIV/AIDS Program is subject to Public Health Systems Reporting Requirements. Under these requirements, community-based non-governmental applicants must prepare and submit a Public Health System Impact Statement (PHSIS). The PHSIS is intended to provide information to State and local officials to keep them apprised of proposed health services grant applications submitted by community-based organizations within their jurisdictions.

Community-based non-governmental applicants are required to submit, no later than the Federal due date for receipt of the application, the following information to the head of the appropriate State or local health agencies in the area(s) to be impacted: (a) A copy of the face page of the application (SF 424), and (b) a summary of the project (PHSIS), not to exceed one page, which provides: (1) A description of the population to be served, (2) a summary of the services to be provided, and (3) a description of the coordination planned with the appropriate State or local health agencies. Copies of the letter forwarding the PHSIS to these authorities must be contained in the application materials submitted to the OPHS.

5. Funding Restrictions

Budget Request: If funding is requested in an amount greater than the ceiling of the award range, the application will be considered non-responsive and will not be entered into the review process. The application will be returned with notification that it did not meet the submission requirements.

Grant funds may be used to cover costs of:

• Personnel.

• Consultants.

• Equipment.

• Supplies (including screening and outreach supplies).

• Grant-related travel (domestic only), including attendance at an annual OMH grantee meeting.

• Other grant-related costs.

Grants funds may not be used for:

• Building alterations or renovations.

• Construction.

• Fund raising activities.

• Job training.

• Medical care, treatment or therapy.

• Political education and lobbying.

• Research studies involving human subjects.

• Vocational rehabilitation.

Guidance for completing the budget can be found in the Program Guidelines, which are included with the complete application kits.

Section V. Application Review Information

1. Criteria

The technical review of the Community Partnership HIV/AIDS Program applications will consider the following four generic factors listed, in descending order of weight.

A. Factor 1: Program Plan (35%)

• Appropriateness and merit of proposed approach and specific activities for each objective.

• The degree to which the project design, proposed activities and products to be developed are culturally appropriate.

• Logic and sequencing of the planned approaches as they relate to the statement of need and to the objectives.

• Soundness of the established partnership and the roles of the partnership members in the program.

• Applicant's capability to manage and evaluate the project as determined by:

—Qualifications and appropriateness of proposed staff or requirements for “to be hired” staff and consultants.

—Proposed staff level of effort.

—Management experience of the applicant.

—The applicant's organizational structure and proposed project organizational structure.

—Appropriateness of defined roles including staff reporting channels and that of any proposed consultants.

—Clear lines of authority among the proposed staff within and between the partnership organizations.

B. Factor 2: Evaluation (25%)

• The degree to which expected results are appropriate for objectives and activities.

• Appropriateness of the proposed data collection plan (including demographic data to be collected on project participants), analysis and reporting procedures.

• Suitability of process, outcome, and impact measures.

• Clarity of the intent and plans to assess and document progress towards achieving objectives, planned activities, and intended outcomes.

• Potential for the proposed project to impact the HIV/AIDS health status of the target population(s).

• Soundness of the plan to document the project for replication in similar communities.

• Soundness of the plan to disseminate project results.

C. Factor 3: Background and Demonstrated Capability (20%)

• Demonstrated knowledge of the problem at the local level.

• Significance and prevalence of HIV/AIDS in the proposed community and target population.

• Extent to which the applicant demonstrates access to the target community(ies), and whether it is well positioned and accepted within the community(ies) to be served.

• Extent and documented outcome of past efforts and activities with the target population.

• If applicable, extent and documented outcome(s) of activities conducted under the OMH-supported Minority Community Health Coalition Demonstration Grant Program, HIV/AIDS included in the required progress report.

D. Factor 4: Objectives (20%)

• Merit of the objectives.

• Relevance to the OMH Program purpose and expectations, and the stated problem to be addressed by the proposed project.

• Degree to which the objectives are stated in measurable terms.

• Attainability of the objectives in the stated time frames.

2. Review and Selection Process

Accepted Community Partnership HIV/AIDS Program applications will be reviewed for technical merit in accordance with PHS policies. Applications will be evaluated by an Objective Review Committee (ORC). Committee members are chosen for their expertise in minority health, health disparities, and their understanding of the unique health problems and related issues confronted by the racial and ethnic minority populations in the United States. Funding decisions will be determined by the Deputy Assistant Secretary for Minority Health who will take under consideration:

• The recommendations and ratings of the ORC.

• Geographic distribution of applicants.

• Racial/ethnic distribution of targeted audience.

3. Anticipated Award Date

September 1, 2006.

Section VI: Award Administration Information

1. Award Notices

Successful applicants will receive a notification letter from the Deputy Assistant Secretary for Minority Health and a Notice of Grant Award (NGA), signed by the OPHS Grants Management Officer. The NGA shall be the only binding, authorizing document between the recipient and the Office of Minority Health. Unsuccessful applicants will receive notification from OPHS.

2. Administrative and National Policy Requirements

In accepting this award, the grantee stipulates that the award and any activities thereunder are subject to all provisions of 45 CFR parts 74 and 92, currently in effect or implemented during the period of the grant.

The DHHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting Requirements

A successful applicant under this notice will submit: (1) Semi-annual progress reports; (2) an annual Financial Status Report; and (3) a final progress report and Financial Status Report in the format established by the OMH, in accordance with provisions of the general regulations which apply under “Monitoring and Reporting Program Performance,” 45 CFR 74.51-74.52, with the exception of State and local governments to which 45 CFR part 92, subpart C reporting requirements apply.

Uniform Data Set: The Uniform Data Set (UDS) is a web-based system used by OMH grantees to electronically report progress data to OMH. It allows OMH to more clearly and systematically link grant activities to OMH-wide goals and objectives, and document programming impacts and results. All OMH grantees are required to report program information via the UDS (http://www.dsgonline.com/omh/uds). Training will be provided to all new grantees on the use of the UDS system during the annual grantee meeting.

Grantees will be informed of the progress report due dates and means of submission. Instructions and report format will be provided prior to the required due date. The Annual Financial Status Report is due no later than 90 days after the close of each budget period. The final progress report and Financial State Report are due 90 days after the end of the project period. Instructions and due dates will be provided prior to required submission.

Section VII. Agency Contacts

For questions on budget and business aspects of the application, contact Ms. Margaret Griffiths, Grants Management Specialist, OPHS Office of Grants Management, Tower Building, 1101 Wootton Parkway, Suite 550, Rockville, MD 20852. Ms. Griffiths can be reached by telephone at (240) 453-8822; or by e-mail at mgriffiths@osophs.dhhs.gov.

For questions related to the Community Partnership HIV/AIDS Program or assistance in preparing a grant proposal, contact Ms. Mimi Chafin, Grants Coordinator, Division of Program Operations, Office of Minority Health, Tower Building, Suite 600, 1101 Wootton Parkway, Rockville, MD 20852. Ms. Chafin can be reached by telephone at (240) 453-8444; or by e-mail at mchafin@osophs.dhhs.gov.

For additional technical assistance, contact the OMH Regional Minority Health Consultant for your region listed in your grant application kit.

For health information, call the OMH Resource Center (OMHRC) at 1-800-444-6472.

Section VIII. Other Information

1. Healthy People 2010

The Public Health Service (PHS) is committed to achieving the health promotion and disease prevention objectives of Healthy People 2010, a PHS-lead national activity announced in January 2000 to eliminate health disparities and improve years and quality of life. More information may be found on the Healthy People 2010 Web site: http://www.healthypeople.gov and copies of the document may be downloaded. Copies of the Healthy People 2010: Volumes I and II can be purchased by calling (202) 512-1800 (cost $70.00 for printed version; $20.00 for CD-ROM). Another reference is the Healthy People 2010 Final Report—2001.

For one (1) free copy of the Healthy People 2010, contact: The National Center for Health Statistics, Division of Data Services, 3311 Toledo Road, Hyattsville, MD 20782, or by telephone at (301) 458-4636. Ask for HHS Publication No. (PHS) 99.1256. This document may also be downloaded from: http://www.healthypeople.gov.

2. Definitions

For purposes of this announcement, the following definitions apply:

AIDS Service Organization (ASO)—A health association, support agency, or other service activity involved in the prevention and treatment of AIDS (HIV/AIDS Treatment Information Services Glossary of HIV/AIDS-Related Terms, March 1997).

Community-Based Organizations—Private, nonprofit organizations and public organizations (local and tribal governments) that are representative of communities or significant segments of communities where the control and decision making powers are located at the community level.

Community-Based, Minority-Serving Organization—A community-based organization that has a history of service to racial/ethnic minority populations. (See Definition of Minority Populations below.)

Community Partnership—At least three discrete organizations/institutions in a community which collaborate on specific community concerns, and seek resolution of those concerns through a formalized relationship documented by written memoranda of agreement signed by individuals with the authority to represent the organizations.

Memorandum of Agreement (MOA)—A single document signed by authorized representatives of each community partnership member organization which details the roles and resources each entity will provide for the project and the terms of the agreement (must cover the entire project period).

Minority Populations—American Indian or Alaska Native; Asian; Black or African American; Hispanic or Latino; Native Hawaiian or other Pacific Islander (42 U.S.C. 300u-6, section 1707 of the Public Health Service Act, as amended).

Nonprofit Organizations—Corporations or associations, no part of whose net earnings may lawfully inure to the benefit of any private shareholder or individual. Proof of nonprofit status must be submitted by private nonprofit organizations with the application or, if previously filed with PHS, the applicant must state where and when the proof was submitted. (See III, 3 Other, for acceptable evidence of nonprofit status.)

Sociocultural Barriers—Policies, practices, behaviors and beliefs that create obstacles to health care access and service delivery.

Dated: April 19, 2006.
Garth N. Graham,
Deputy Assistant Secretary for Minority Health.

[FR Doc. E6-6727 Filed 5-3-06; 8:45 am]

BILLING CODE 4150-29-P